DEPARTMENT OF AGRICULTURE

Farm Service Agency

7 CFR Parts 761, 763, and 764

RIN 0560-AI03

Farm Loan Programs Loan Making Activities; Correction

AGENCY: Farm Service Agency, USDA.

ACTION: Proposed rule; correction.

SUMMARY: This document contains a correction to the proposed rule titled “Farm Loan Programs Loan Making Activities” that was published September 23, 2010. The Farm Service Agency (FSA) is correcting the Paperwork Reduction Act information since the information collection statement for special direct loan servicing was inadvertently omitted from the proposed rule.

DATES: We will consider comments on the rule that we receive by November 22, 2010.

FOR FURTHER INFORMATION CONTACT: Connie Holman, Senior Loan Officer, USDA FSA LMD, STOP 0522, 1400 Independence Avenue, SW., Washington, DC 20250-0522, (202) 690-0756; fax: (202) 720-6797; e-mail: connie.holman@wdc.usda.gov. Persons with disabilities or who require alternative means for communication (Braille, large print, audio tape, etc.) should contact the USDA Target Center at (202) 720-2600 (voice and TDD).

SUPPLEMENTARY INFORMATION: On September 23, 2010, FSA published a proposed rule (75 FR 57866-57880) to implement four provisions of the Food, Conservation, and Energy Act of 2008 (2008 Farm Bill). There was an inadvertent omission of the Paperwork Reduction Act information for special direct loan servicing in the document. Although the proposed rule does not propose any changes to the 7 CFR part 766, the changes in the proposed rule for equine loans would require use of the forms currently approved for uses related to 7 CFR part 766. Therefore, FSA needs to correct the following information add to the proposed rule published on September 23, 2010.

Correction

On page 57873, the following correction replaces the third sentences in the first paragraph under the heading “Paperwork Reduction Act”: The new information collection requests for Farm Loan Programs, General Administration; Direct Loan Making; regular Direct Loan Servicing; and special Direct Loan Servicing all result from expanding eligibility for EM to cover equine losses; and when approved will be incorporated into the existing approved ICRs (of the same titles) that will be up for a renewal this year.

On page 57874, add the following immediately following the Paperwork Reduction Act information for the “Direct Loan Servicing—Regular” (column 3, above the request for comments):

Title: Direct Loan Servicing—Special.

OMB Control Number: 0560-NEW.

Type of Request: New Collection.

Abstract: This information collection is required to support the proposed regulatory changes that include equine losses as eligible for EM. Some of the same information collection activities that will be used are currently approved for 7 CFR part 766, Direct Loan Servicing—Special, which establishes the requirements related to special servicing actions associated with direct loans including emergency loans. Emergency loan applicants tend to pose a higher economic risk of loss than those operations financed by commercial creditors. Information collections established in the regulations are necessary for FSA to actively supervise and provide credit counseling, management advice, and financial guidance.

Estimate of Burden: Public reporting for this collection of information is estimated to average 47 minutes per response.

Type of Respondents: Individuals or households, businesses or other for profit, and farms.

Estimated Number of Respondents: 7.

Estimated Number of Responses per Respondent: 2.5.

Estimated Total Annual Number of Responses: 18.

Estimated Total Annual Burden on Respondents: 26 hours.

Once this information collection request is approved, FSA will incorporate this collection into existing collections package 0560-0233.

Signed in Washington, DC, on October 21, 2010.
Jonathan W. Coppess,
Administrator, Farm Service Agency.

[FR Doc. 2010-27227 Filed 10-28-10; 8:45 am]

BILLING CODE 3410-05-P